DEPARTMENT OF ENERGY

Environmental Management Site-Specific Advisory Board, Northern New Mexico

AGENCY: Department of Energy.

ACTION: Notice of open meeting and retreat.

SUMMARY: This notice announces a meeting of the Environmental Management Site-Specific Advisory Board (EM SSAB), Northern New Mexico. The Federal Advisory Committee Act (Pub. L. 92-463, 86 Stat. 770) requires that public notice of this meeting be announced in the Federal Register.

DATES: Wednesday, May 21, 2008, 9 a.m.-5:30 p.m.; Thursday, May 22, 2008, 9 a.m.-4 p.m.

ADDRESSES: Holiday Inn, Santa Fe, 4048 Cerrillos Road, Santa Fe, New Mexico.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

SUPPLEMENTARY INFORMATION: Purpose of the Board: The purpose of the Board is to make recommendations to DOE in the areas of environmental restoration, waste management, and related activities.

Tentative Agenda

Retreat—Wednesday, May 21, 2008

9 a.m.—Welcome and Introductions, Ed Moreno.

9:05 a.m.—Round Robin—Expectations for Retreat, Board Members.

9:15 a.m.—“Lesson Learned” from the Material Disposal Area-G Forum, Ralph Phelps.

9:30 a.m.—Northern New Mexico Citizens' Advisory Board (NNMCAB) Surveys, Larry Rapagnani.

10 a.m.—Break.

10:15 a.m.—Overview of NNMCAB Bylaws, EM SSAB Guidance and Administrative Procedures, Christina Houston.

11:45 a.m.—Lunch Break.

1 p.m.—View “The Manhattan Project” * * *

1:45 p.m.—Department of Energy, Los Alamos Site Office, George Rael:

• Top Three Priorities;

• EM Baseline;

• Funding Issues;

• Impacts of Delayed Funding.

2:30 p.m.—Break.

2:45 p.m.—Consent Order Table of Contents and Schedule, James Bearzi:

• Background and Development;

• Outline of Contents;

• Components:

1. Characterization;

2. Corrective Measures Evaluation;

3. Selection of Remedy.

3:15 p.m.—New Mexico Environment Department (NMED) Critical Issues, James Bearzi:

• How Selected;

• NMED Issues of Concern;

• Resource Conservation and Recovery Act (RCRA) Permit Renewal:

○ Top Three Issues:

1. Groundwater Monitoring;

2. Remedy Selection;

3. Permit Renewal.

3:45 p.m.—Consent Order, Los Alamos National Laboratory (LANL), Dave McInroy:

• LANL EM Program Master Plan;

• Progress in Clean-up;

• Future Activities.

4:15 p.m.—Environmental Protection Agency, Rich Mayer:

• Federal Facilities Compliance Act;

• Recertification of the Waste Isolation Pilot Plant.

4:45 p.m.—NNMCAB Communications:

• Web site Training, Lorelei Novak;

• Distribution of Information to Members.

5:15 p.m.—Wrap up Discussion, Ed Moreno.

5:30 p.m.—Adjourn.

Meeting—Thursday, May 22, 2008

9 a.m.—Call to Order by Deputy Designated Federal Officer, Christina Houston.

Establishment of a Quorum, Lorelei Novak.

Welcome, Ed Moreno.

Approval of Agenda, J. D. Campbell.

Approval of Minutes of March 26, 2008, Board Meeting, J.D. Campbell.

9:05 a.m.—Old Business, Ed Moreno:

• Written Reports;

• Other Matters.

9:15 a.m.—New Business, Ed Moreno:

• Election of Vice-Chair, Board Members;

• Consideration and Action on Proposed Amendments to NNMCAB Bylaws, Menice Santistevan.

9:45 a.m.—Committee Business/Reports:

• Environmental Monitoring, Surveillance, and Remediation Committee, Introduction of Draft Recommendation(s), Pam Henline;

• Waste Management Committee, Introduction of Draft Recommendation(s), Ralph Phelps.

10:30 a.m.—Break.

10:45 a.m.—Presentation on San Ildefonso Pueblo Tribal Risk Assessment, Raymond Martinez.

11:30 a.m.—Public Comment.

11:45 a.m.—Lunch Break.

1 p.m.—Committees Prepare Draft Fiscal Year 2009 Work Plans, Ed Moreno.

2:30 p.m.—Break.

2:45 p.m.—Committees Continue Work on Draft Fiscal Year 2009 Work Plans, Ed Moreno.

3:45 p.m.—Wrap up Discussion, Ed Moreno.

4 p.m.—Adjourn, Christina Houston.

This agenda is subject to change at least one day in advance of the meeting.

Public Participation: The meeting is open to the public. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Menice Santistevan at the address or phone number listed above. Minutes and other Board documents are on the Internet at: http://www.nnmcab.org/minutes/board-minutes.htm.

Issued at Washington, DC, on April 18, 2008.
Rachel Samuel,
Deputy Committee Management Officer.

[FR Doc. E8-8770 Filed 4-22-08; 8:45 am]

BILLING CODE 6405-01-P